DEPARTMENT OF AGRICULTURE

Grain Inspection, Packers and Stockyards Administration

Notice of Request for New Information Collection

AGENCY: Grain Inspection, Packers and Stockyards Administration, USDA.

ACTION: Notice of reopening and extension of comment period.

SUMMARY: We announced in the Federal Register our intention to submit to the Office of Management and Budget two new information collection activities to support a large livestock and meat marketing study. That notice was published on September 9, 2004 (69 FR 54629-54630), and comments were due on November 8, 2004. This notice announces our intention to reopen that comment period until December 3, 2004.

DATES: We will consider comments that we receive by December 3, 2004.

ADDRESSES: We invite you to submit comments on this notice. You may submit comments by any of the following methods:

• E-mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

Instructions: All comments should make reference to the date and page number of this issue of the Federal Register.

Background Documents: Information collection package and other documents relating to this action will be available for public inspection in the above office during regular business hours.

Read Comments: All comments will be available for public inspection in the above office during regular business hours (7 CFR 1.27(b)).

FOR FURTHER INFORMATION CONTACT: Roger Schneider, Economist, USDA, GIPSA, (202) 720-7455, 1400 Independence Avenue, SW., Room 1642-S, Washington, DC 20250-3647, or via e-mail at Roger.E.Schneider@usda.gov.

SUPPLEMENTARY INFORMATION: The Grain Inspection, Packers and Stockyards Administration (GIPSA) of the U.S. Department of Agriculture (USDA) administers the Packers and Stockyards Act of 1921, as amended and supplemented (7 U.S.C. 181-229) (P&S Act). The P&S Act prohibits unfair, deceptive, and fraudulent practices by market agencies, dealers, stockyards, packers, swine contractors, and live poultry dealers in the livestock, meatpacking, and poultry industries. In fiscal year 2003, GIPSA received $4.5 million in appropriations for a packer concentration study, which will be a broad study of marketing practices in the entire livestock and red meat industries (Pub. L. 108-7, 117 Stat. 22). The study will address many questions and concerns that have been raised about changes in the structure and business practices in the livestock and meat industries. We published a notice announcing the study and describing the approach that we planned for the study on May 30, 2003 (68 FR 32455-32458).¹

¹ Additional information about the study, including comments to the notice and the announcement of the contract to perform the study, is available on the GIPSA Web site (http://www.usda.gov/gipsa/psp/issues/livemarketstudy/livestock_marketing_study.htm).

More specifically, the study will: (1) Identify and classify spot and alternative marketing arrangements; (2) describe terms, availability, and reasons for use of spot and alternative marketing arrangements and associated prices; (3) determine extent of use, analyze price differences, and analyze short-run spot market price effects of alternative marketing arrangements; (4) measure and compare costs and benefits associated with spot and alternative marketing arrangements; and (5) analyze the implications of alternative marketing arrangements for the livestock and meat marketing system.

In addition to publishing the notice announcing the information collection activities, on October 4, 2004, we sent a letter to packers and processors notifying them of the requirement to continue to maintain the required information. Subsequent to that, RTI International (RTI),² the contractor responsible for the information collection activities, began pre-testing data collection procedures with a limited number (9 or fewer of each type) of respondents.

² RTI International is a trade name of Research Triangle Institute.

We received six comments to the notice published on September 9, 2004 (69 FR 54629-54630). Three of those comments requested an extension of the comment period. The requests came from two industry organizations whose members will be required to provide the information for which comments were requested and an industry member who will be required to provide information for which comments were requested. The extension requests ranged from 2 weeks to 90 days. One of the three commenters specified that additional time is needed to provide constructive comments.

This notice reopens and extends the comment period on two information collection packages that we are preparing to submit to the Office of Management and Budget to collect information for the study. The first information collection package will cover transactions data on procurement and sales from meat packers, feeders, dealers, meat processors, food wholesalers, food retailers, food service operations, and meat exporters. The second information collection package will cover surveys about the use of spot and alternative marketing arrangements among cattle, hog, and lamb producers, meat packers, meat processors, food wholesalers, food retailers, food service operations, and meat exporters.

Title: Livestock and Meat Marketing Study; Transactions Data and Survey of Spot and Alternative Marketing Arrangements.

OMB Number: New collection.

Expiration Date of Approval: New collection.

Type of Request: New.

Abstract: To conduct this study it is necessary to collect data on procurement and sales transactions from a sample of meat packers, meat processors, food wholesalers, food retailers, food service operations, and meat exporters. The establishments selected for the sample will be asked to provide the requested data in an electronic format, to the greatest extent practicable.

Response to this data collection, which constitutes a special report, will be required for meat packers and meat processors (7 U.S.C. 222).³ The establishments will be asked to provide daily transactions data for procurement and sales for a 2.5-year period. Additionally, meat packers will be asked to provide summaries of operations data (profit and loss statements).

³ The recordkeeping requirements for the data covered by this information collection activity have been previously approved separately under OMB control number 0580-0015.

Response to this data collection will be voluntary for food wholesalers, food retailers, food service operations, and meat exporters. The establishments will be asked to provide transactions data for procurement and sales for a 2.5-year period in an aggregated format to reduce the burden.

An example of some the information that will be required is shown in the following table for beef packers. More or less information may be required and different information may be required depending upon the type of livestock or meat the respondent purchases or sells, and the type of activity (for example, slaughter, processing, or wholesaling) conducted by the respondent. The information will be requested in electronic format; we are not specifying how the respondents must keep the information, but, as shown in the following table, will provide a suggested format for providing the information. Respondents providing the information in another format will be asked to provide a data dictionary to explain their format. The information collection package contains the detailed information collection requirements for each type of respondent. We will revise the requested information based on the results of the pre-test and public comments, as appropriate.

Table 1.—Procurement Data Fields
[A transaction is defined as the purchase of a pen/lot of cattle]
Field name | Description/suggested format for data
ID Number | ID number used by establishment to identify individual lot or transaction.
Plant Name | Name of plant procuring cattle.
Purchase Date | Date lot of cattle was purchased from seller (yyyy/mm/dd).
Kill Date | Date first cattle in lot were slaughtered (yyyy/mm/dd).
Seller Name | Name of seller.
Seller City | City location of the feedlot where the cattle were fed (Not the address or location of the owner of the cattle).
Seller State | State location of the feedlot where the cattle were fed (Not the address or location of the owner of the cattle).
Seller County | County location of the feedlot where the cattle were fed (Not the address or location of the owner of the cattle).
Seller Zip | Zip code of the feedlot where the cattle were fed (Not the address or location of the owner of the cattle).
Number of Head | Number of live cattle in this lot (Exclude condemned and dead).
Condemn | Number of condemned and dead cattle in this lot.
Cattle Type | 1 = 95% or more of this lot was beef cattle; 2 = 95% or more of this lot was dairy cattle; 3 = Mixed beef and dairy cattle.
Steers | Percentage or Number of steers in this lot.
Heifers | Percentage or Number of heifers in this lot.
Bulls | Percentage or Number of bulls in this lot.
Cows | Percentage or Number of cows in this lot.
Stag | Percentage or Number of stags in this lot.
Bullocks | Percentage or Number of bullocks in this lot.
Heiferettes | Percentage or Number of heiferettes in this lot.
Category Units | 1 = Number in the lot (for example, number of steers, heifers, etc); 2 = Percentage in the lot (for example, percentage of steers, heifers, etc).
Live Weight | Net live or actual purchase weight for this lot (Equal to gross live weight minus pencil shrink).
Pencil Shrink | Shrink percentage used to calculate purchase weight.
Hot Weight | Total hot weight of this lot (carcass weight or dressed weight, if weighed pre-chill).
Cold Weight | Total cold weight of this lot (if weighed post-chill).
Weight Units | 1 = Pounds; 2 = Hundred weight (cwt); 3 = Tons.
Total Cost | Total delivered cost of this lot (Includes cost of the cattle, transportation, commission, feed costs, and hide premiums charged to the packer by the seller).
Shipping Cost | Total transportation cost paid by packer (0 = if cost was not paid by packer).
Commission Cost | Total commission cost paid by packer (0 = if cost was not paid by packer).
Feed Cost | Total feed cost paid by packer (0 = if cost was not paid by packer).
Hide Premium | Total hide premium paid by packer (0 = if no premium was paid by packer).
Prime | Percentage of this lot that were Quality grade Prime.
Choice | Percentage of this lot that were Quality grade Choice.
Upper Choice | Percentage of this lot that were in the Upper 2/3 Choice.
Lower Choice | Percentage of this lot that were in the Lower 1/3 Choice.
Select | Percentage of this lot that were Quality grade Select.
Standard | Percentage of this lot that were Quality grade Standard.
Other | Percentage of this lot that were Quality grade of something other than Prime, Choice, Choice Upper 2/3, Choice Lower 1/3, Select, or Standard.
Quality Grade Units | 1 = Live weight; 2 = Hot weight; 3 = Cold weight; 4 = Number of head.
Dark Cutter | Percentage or Number of cattle classified as dark cutters.
Dark Cutter Units | 1 = Number in the lot; 2 = Percentage in the lot.
Yield Grade 1 | Percentage of this lot that were Yield Grade 1.
Yield Grade 2 | Percentage of this lot that were Yield Grade 2.
Yield Grade 3 | Percentage of this lot that were Yield Grade 3.
Yield Grade 4 | Percentage of this lot that were Yield Grade 4.
Yield Grade 5 | Percentage of this lot that were Yield Grade 5.
Yield Grade Other | Percentage of this lot that were Yield Grade other than 1, 2, 3, 4, or 5.
Yield Grade Units | 1 = Live weight; 2 = Hot weight; 3 = Cold weight; 4 = Number of head.
% Heavy Weight | Percentage of cattle in lot that was classified heavy weight.
Heavy Weight Units | 1 = Live weight; 2 = Hot weight; 3 = Cold weight; 4 = Number of head.
Heavy Weight Limit | Maximum weight allowed before cattle were classified heavy weight.
% Light Weight | Percentage of cattle in lot that was classified light weight.
Light Weight Units | 1 = Live weight; 2 = Hot weight; 3 = Cold weight; 4 = Number of head.
Light Weight Limit | Minimum weight allowed before cattle were classified light weight.
Age 30+ | Percentage of cattle in lot that was 30 months of age and older.
Age Units | 1 = Live weight; 2 = Hot weight; 3 = Cold weight; 4 = Number of head.
Kosher | 1 = Cattle in this lot were eligible for Kosher status; 2 = Cattle in this lot were not eligible for Kosher status.
Halal | 1 = Cattle in this lot were eligible for Halal status; 2 = Cattle in this lot were not eligible for Halal status.
Certification Program | 1 = Cattle were raised under the requirements of a certification program (Certified Angus Beef, Certified Hereford Beef, etc.); 2 = Cattle were not raised under the requirements of a certification program.
Procurement Method | 1 = Spot-Market/Open Market (cattle purchased directly from feedlot, other seller, or at public markets within 2 weeks of kill date); 2 = Forward Contract (packer contracts with seller to purchase lot of cattle at either a fixed or basis price; contract is entered into at any time between placement of cattle on feed and 2 weeks prior to kill date); 3 = Packer-Fed/Owned (packer owned cattle fed for slaughter at either custom feedlot or packer owned or controlled feedlot); 4 = Marketing Agreement (a long-term arrangement where packer agrees to purchase specified number of cattle per specified time period such as week, month, or year); 5 = Joint Venture or Shared Ownership 6 = Other (purchasing method not captured in other categories).
Pricing Method | 1 = Negotiated Privately; 2 = Open Bidding; 3 = Sealed Bid; 4 = Formula Pricing; 5 = Internal Transfer Price; 6 = Other (pricing method not captured in other categories).
Valuation Method | 1 = Live weight, fixed price, not dependent on grade and yield; 2 = Carcass weight (hot or dressed weight), fixed price, not dependent on grade and yield; 3 = Carcass weight (hot or dressed weight), dependent on carcass grade and yield or grid value; 4 = Other (valuation method not captured in other categories).

In addition, to complete this study it is necessary to conduct surveys of cattle, hog, and lamb producers, feeders, dealers, meat packers, meat processors, food wholesalers, food retailers, food service operations, and meat exporters. Participation in the surveys will be voluntary. Surveys will be mailed, with initial and follow-up contacts by telephone. The surveys will collect information on terms and frequency of use of alternative marketing arrangements; volume of livestock and meat transferred with alternative marketing arrangements, pricing methods for livestock and meat; reasons for using alternative marketing arrangements; and the effects of alternative marketing arrangements on costs and efficiencies, product quality, and risk shifting. The survey questions will be targeted to the appropriate industry segment to reduce burden. The surveys will request information about the respondents’ operations for the previous fiscal year.

All data collection requests will include a pledge of confidentiality and the data will be collected exclusively for statistical purposes consistent with the provisions of the Confidential Information Protection and Statistical Efficiency Act of 2002 (CIPSEA). In addition, the transactions data collected from meat packers and processors (part 1) will be subject to the confidentiality restrictions in the P&S Act. Analysis datasets created using the transactions data will be stored in an encrypted format. Individual data records will not include the identity of the establishment. The study findings will be reported to the public only in aggregated form so that individual establishments cannot be identified.

(1) Transactions Data

Estimate of Burden: The public reporting burden for this collection of information is estimated to average 40 hours per response.

Respondents (Affected Public): Meat packers, meat processors, food wholesalers, food retailers, food service operations, and meat exporters.

Estimated Number of Respondents: 400.

Estimated Number of Responses per Respondent: 1.

Estimated Total Annual Burden on Respondents: 16,000 hours.

Total Costs: Transactions data reporting $435,072 for all establishments combined. Calculated as follows: (16,000 hours) × ($27.192 per hour) = $435,072.

(2) Spot and Alternative Marketing Arrangements Survey

Estimate of Burden: The public reporting burden for this collection of information is estimated to average 60 minutes per response.

Respondents (Affected Public): Cattle, hog, and lamb producers, feeders, dealers, meat packers, meat processors, food wholesalers, food retailers, food service operations, and meat exporters.

Estimated Number of Respondents: 3,800.

Estimated Number of Responses per Respondent: 1.

Estimated Total Annual Burden on Respondents: 3,800 hours.

Total Costs: Survey reporting $139,080 for all establishments combined. Calculated as follows: (3,800 hours) × ($36.60 per hour) = $139,080.

Copies of this information collection assessment can be obtained from Tess Butler; see ADDRESSES section for contact information.

As required by the Paperwork Reduction Act (44 U.S.C. 3506(c)(2)(A)) and its implementing regulations (5 CFR 1320.8(d)(1)(i)), we specifically request comments on:

(a) Whether the proposed collection of information is necessary for the proper performance of the functions of the agency, including whether the information will have practical utility;

(b) The accuracy of the agency's estimate of the burden of the proposed collection of information, including the validity of the methodology and assumptions used;

(c) Ways to enhance the quality, utility, and clarity of the information to be collected; and

(d) Ways to minimize the burden on the collection of information on those who are to respond, including through the use of appropriate automated, electronic, mechanical, or other technological collection techniques or other forms of information technology.

All responses to this notice will be summarized and included in the request for OMB approval. All comments will also become a matter of public record.

Authority: 44 U.S.C. 3506, 5 CFR 1320.8, and Pub. L. 108-7, 117 Stat. 22.

Dated: November 17, 2004.
Donna Reifschneider,
Administrator, Grain Inspection, Packers and Stockyards Administration.

[FR Doc. 04-25803 Filed 11-19-04; 8:45 am]

BILLING CODE 3410-EN-U